DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995 (44 U.S.C. 3506(c)(2)(A)), this notice seeks comments concerning the need to continue collecting information from state, local, and tribal government officials; businesses; and, individuals residing in the immediate and surrounding areas of chemical stockpile sites.

SUPPLEMENTARY INFORMATION: The Chemical Stockpile Emergency Preparedness Program (CSEPP) is one facet of the multi-hazard readiness program in eight U.S. states that deal with hazardous material spills or releases. The program's goal is to improve preparedness to protect the people of these communities in the unlikely event of an accident. CSEPP, a cooperative effort between FEMA and the U.S. Army, provides funding (grants), training, community outreach, guidance, technical support and expertise to State, local, and tribal governments to improve their capabilities to prepare for and respond to this type of disaster. Since no preparedness program can be successful without the public's understanding and cooperation, input from the residents and businesses of immediate and/or surrounding areas is vital to program managers' ability to design custom-tailored strategies to educate and communicate risks and action plans at the local level. This survey, which was initiated three years ago, will continue as the assessment mechanism to document and quantify program achievements. There are two authorities supporting this information collection: (1) The Government Performance Results Act of 1993 (GPRA), which mandates federal agencies to provide valid and reliable quantification of program achievements, and (2) Executive Order 12862, which requires agencies to survey customers to determine their level of satisfaction with existing services.

Collection of Information

Title: Chemical Stockpile Emergency Preparedness Program (CSEPP) Evaluation and Customer Satisfaction Survey.

Type of Information Collection: Extension of a currently approved collection.

OMB Number: 1660-0057.

Abstract: Consistent with performance measurement requirements set forth by the Government Performance Results Act, the Chemical Stockpile Preparedness Program (CSEPP) will continue collecting data from state, local, and tribal governments; individuals; and, businesses residing in the immediate or surrounding areas of eight chemical stockpile sites. This study will: (1) Assess program effectiveness using five national performance indicators unique to the CSEPP program, (2) measure and monitor customer satisfaction with CSEPP products and services, and (3) identify weaknesses and strengths of individual sites and program components. Data findings will be used to set customer service standards, while providing quantitative benchmarks for program monitoring and evaluation.

Affected Public: State, local, and tribal government officials; individuals; and businesses.

Estimated Total Annual Burden Hours: 1,781 hours.

| Number of respondents (A) | Frequency of response (B) | Hours per response (C) | Annual burden hours (A × B × C)
State/local | 176 | 1 | .25 | 44
Individuals and Businesses | 6,945 | 1 | .25 | 1,737
Total | 7,121 | 1 | .25 | 1,781

Estimated Cost: $29,393.00.

Table 2.—Annual Cost to Respondents
Program | Burden hours | Median hour rate ($) | Average cost per response ($) | Annualized cost all respondents ($)
Open-Ended Questionnaire:
State/local officials | 44 | ¹ 23.41 |  | 1,030.00
Surveys:
Individuals and Businesses | 1,737 | ² 16.32 |  | 28,363.00
Grand Total | 1,781 |  |  | 29,393.00
¹ National median hourly rate for emergency management-related occupations per Bureau of Labor Statistics (BLS).
² Average of median hourly rate for all occupations at state level per BLS: AL=$15.06; KY=$15.15; UT=$15.88; MD=$19.07; IN=$15.90; AR=$13.72; CO=$18.50; OR=$17.09.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Joe Herring, Program Specialist, CSEPP at (202) 646-3987 for additional information. You may contact Ms. Anderson for copies of the proposed collection of information at facsimile number (202) 646-3347 or email address: FEMA-Information-Collections@dhs.gov.

Dated: August 23, 2004.
Edward W. Kernan,
Branch Chief, Information Resources Management Branch, Information Technology Services Division.

[FR Doc. 04-19793 Filed 8-31-04; 8:45 am]

BILLING CODE 9110-17-P